DEPARTMENT OF TRANSPORTATION

Federal Aviation Administration

14 CFR Part 23

[Docket No. CE172, Special Condition 23-125-SC]

Special Conditions; GROB-WERKE, Burkhurt Grob e.k., Unternehmensbereich Luft-und Raumfahrt, Model G120A Airplane; Protection of Systems From High Intensity Radiated Fields (HIRF): Correction

AGENCY: Federal Aviation Administration (FAA), DOT.

ACTION: Final special conditions; correction.

SUMMARY: The FAA published a document in the Federal Register on February 5, 2002, concerning final special conditions on the GROB-WERKE, Burkhurt Grob e.k., Unternehmensbereich Luft-und Raumfahrt, Model G120A airplane. There was an inadvertent error in the special condition number in the document. This document contains a correction to the special condition number for the final special conditions.

DATES: The effective date of these corrected special conditions is January 29, 2002.

FOR FURTHER INFORMATION CONTACT: Ervin Dvorak, Aerospace Engineer, Standards Office (ACE-110), Small Airplane Directorate, Aircraft Certification Service, Federal Aviation Administration, 901 Locust, Room 301, Kansas City, Missouri 64106; telephone (816) 329-4123.

SUPPLEMENTARY INFORMATION:

Need for Correction

The FAA published a document on February 5, 2002 (67 FR 5196) that issued final special conditions. In the document heading, a special condition number appears that had already been issued for another set of special conditions with a different docket number. This document corrects that error.

Correction of Publication

Accordingly, the special condition number, which appears in the heading of Docket No. CE172, is revised from 23-110-SC to 23-125-SC.

Issued in Kansas City, Missouri on July 25, 2002.
James E. Jackson,
Acting Manager, Small Airplane Directorate, Aircraft Certification Service.

[FR Doc. 02-20628 Filed 8-13-02; 8:45 am]

BILLING CODE 4910-13-P